DEPARTMENT OF HEALTH AND HUMAN SERVICES

Substance Abuse and Mental Health Services Administration

Single Source Grant Award to the National Families in Action, Inc., Atlanta, GA

AGENCY: Center for Substance Abuse Prevention (CSAP), Substance Abuse and Mental Health Services Administration (SAMHSA), HHS.

ACTION: Notice of intent to award a single source grant to National Families in Action, Inc. to support updating, pilot testing and adaptation for different target audiences of the Basic Training I module for the National Parent Drug Prevention Corps.

SUMMARY: The Center for Substance Abuse Prevention (CSAP), Substance Abuse and Mental Health Services Administration (SAMHSA), is publishing this notice to provide information to the public concerning a planned single source grant award in the amount of $100,000 in FY 2002 for a project period of one year to the National Families in Action (NFIA). This is not a formal request for applications. Assistance will be provided only to NFIA based on the receipt of a satisfactory application that is approved by an independent review group.

Authority/Justification: The grant will be made under the authority of section 516 of the Public Health Service Act, as amended. The award is intended to support updating, pilot testing, adaptation for different target audiences of the Basic Training I module that will be used in the National Parent Drug Prevention Corps activities that CSAP anticipates for FY 2003. This award is being made on a single source basis because NFIA has developed the original curriculum on which the Basic I training will be based and has the necessary training consultants and infrastructure in place to complete the pilot testing and refinement of the Basic I training curriculum prior to the start of the 2003 initiative. Making the award to another entity would require additional start-up time and costs, as well as duplication of previously completed work.

The Catalog of Federal Domestic Assistance (CFDA) number for this program is 93.243.

FOR FURTHER INFORMATION CONTACT: For more information about this program, contact: Dr. Alvera Stern, Acting Director, Division of Prevention, Application and Education, Center for Substance Abuse Prevention, SAMHSA, Rockwall II, Room 800, 5600 Fishers Lane, Rockville, MD 20857, (301) 443-0315.

Dated: June 20, 2002.
Richard Kopanda,
Executive Officer, SAMHSA.

[FR Doc. 02-16295 Filed 6-26-02; 8:45 am]

BILLING CODE 4162-20-P